DEPARTMENT OF THE INTERIOR

Bureau of Land Management

[CA-930-01-5410-EQ-B172; CACA 43937]

Conveyance of Mineral Interests in California

AGENCY: Bureau of Land Management, Interior.

ACTION: Notice of segregation.

SUMMARY: The mineral interests owned by the United States in the land described in this notice, aggregating 160 acres, are segregated and made unavailable for filings under the general mining laws and the mineral leasing laws to determine the suitability for conveyance of the reserved mineral interest pursuant to section 209 of the Federal Land Policy and Management Act of October 21, 1976. The mineral interests may be conveyed in whole or in part upon favorable mineral examination. The purpose is to allow consolidation of surface and subsurface of minerals ownership where there are no known mineral values or in those instances where the reservation interferes with or precludes appropriate non-mineral development and such development is a more beneficial use of the land than the mineral development.

FOR FURTHER INFORMATION CONTACT: Kathy Gary, California State Office, Federal Office Building, 2800 Cottage Way, Room W-1834, Sacramento, California 95825, (916) 978-4677.

Serial No. CACA 4393757

T. 31 N., R. 11 W., Mount Diablo Meridian

Sec. 4, NW¼

County—Trinity.

Minerals Reservation—All coal and other minerals.

Upon publication of this notice of segregation in the Federal Register as provided in 43 CFR 2720.1-1(b), the mineral interests owned by the United States in the private lands covered by the application shall be segregated to the extent that they will not be subject to appropriation under the mining and mineral leasing laws. The segregative effect of the application shall terminate by publication of an opening order in the Federal Register specifying the date and time of opening; upon issuance of a patent or other document of conveyance to such mineral interest; or two years from the date of publication of this notice, whichever occurs first.

Howard K. Stark,
Chief, Branch of Land Management.

[FR Doc. 03-9714 Filed 4-18-03; 8:45 am]

BILLING CODE 4310-40-P